DEPARTMENT OF LABOR

Employment and Training Administration

[TA-W-62,371]

Leach & Garner Company, Currently Known as Hallmark Sweet, Inc., North Attleboro, MA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on January 22, 2008, applicable to workers of Leach & Garner Company, North Attleboro, Massachusetts. The notice was published in the Federal Register on February 7, 2008 (73 FR 7319).

At the request of the State agency, the Department reviewed the certification for workers of the subject firm. The workers are engaged in the production of findings for jewelry.

New information shows that in September 2007, Hallmark Sweet, Inc. purchased Leach & Garner Company and is currently known as Hallmark Sweet, Inc.

Accordingly, the Department is amending this certification to show that Leach & Garner Company is currently known as Hallmark Sweet, Inc.

The intent of the Department's certification is to include all workers of Leach & Garner Company, currently known as Hallmark Sweet, Inc. who were adversely affected by increased imports.

The amended notice applicable to TA-W-62, 371 is hereby issued as follows:

All workers of Leach & Garner Company, currently known as Hallmark Sweet, Inc., North Attleboro, Massachusetts, who became totally or partially separated from employment on or after October 26, 2006, through January 22, 2010, are eligible to apply for adjustment assistance under Section 223 of the Trade Act of 1974, and are also eligible to apply for alternative trade adjustment assistance under Section 246 of the Trade Act of 1974.

Signed at Washington, DC, this 8th day of April 2008.
Elliott S. Kushner,
Certifying Officer, Division of Trade Adjustment Assistance.

[FR Doc. E8-8248 Filed 4-16-08; 8:45 am]

BILLING CODE 4510-FN-P